DEPARTMENT OF LABOR

Employment and Training Administration

[TA-W-52,815]

Siemens Energy & Automation, Inc., Lebanon, Ohio; Notice of Termination of Investigation

Pursuant to Section 221 of the Trade Act of 1974, as amended, an investigation was initiated on September 11, 2003 in response to a worker petition filed on behalf of workers at Siemens Energy & Automation, Inc., Lebanon, Ohio.

The petitioner has requested that the petition be withdrawn. Consequently, the investigation has been terminated.

Signed at Washington, DC this 25th day of September, 2003
Linda G. Poole,
Certifying Officer, Division of Trade Adjustment Assistance.

[FR Doc. 03-27838 Filed 11-4-03; 8:45 am]

BILLING CODE 4510-30-P